FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

ASL Global Logistics, Inc. (NVO & OFF), 19051 Kenswick Drive, Suite 190A, Humble, TX 77338, Officers: Nidal Y. Younes, C.O.O. (Qualifying Individual), Agha Wassim, President, Application Type: Add NVO Service.

ATI Container Services, LLC (NVO & OFF), 11700 NW 36th Avenue, Miami, FL 33167, Officers: Claudia M. Hermo, President (Qualifying Individual), Calos Hermo, Vice President, Application Type: New NVO & OFF License.

B2B Global Logistics Incorporated (NVO & OFF), 14611 S. Broadway Street, Gardena, CA 90248, Officers: Won Bae Lee, President (Qualifying Individual), Henry Yun, Secretary, Application Type: New NVO & OFF License.

Cargo Distribution Export Inc (NVO & OFF), 1932 NW 82nd Avenue, Miami, FL 33126, Officers: Charlie Diaz, President (Qualifying Individual), Claudia Quintero, Application Type: License Transfer & Add NVO Service.

CDS Air Freight, Inc. (NVO & OFF), 107 Executive Drive, #A, Dulles, VA 20166, Officers: Philippe Pierson, Vice President of Ocean Exports (Qualifying Individual), Joseph J. Place, President, Application Type: New NVO & OFF License.

Everplus Logistics Inc (NVO & OFF), 80 Old Tappan Road, Old Tappan, NJ 07675, Officers: Yun S. Kang, President (Qualifying Individual), Danny Shin, Secretary, Application Type: QI Change.

Fastway Moving and Services Corp. dba Fastway Cargo (NVO), 701 Penhorn Avenue, Unit 1, Secaucus, NJ 07094, Officers: Luciana Line, Secretary (Qualifying Individual), Francisco J. Eguiguren, President, Application Type: Trade Name Change/QI Change.

Fastway Moving and Storage Inc. dba Dream Cargo (NVO & OFF), 155 West Street, #2, Wilmington, MA 01887, Officers: Luciana Lina, Secretary (Qualifying Individual), Francisco J. Eguiguren, President, Application Type: Trade Name Change/QI Change.

Forward System Logistics Inc. (NVO), 145-54 156th Street, Jamaica, NY 11434, Officers: Philip Po, Secretary (Qualifying Individual), Carrie Law, President/Treasurer, Application Type: QI Change.

friendship logistics LLC (NVO & OFF), 7823 New London Drive, Springfield, VA 22153, Officer: Feras Hindi, Member (Qualifying Individual), Application Type: New NVO & OFF License.

Global Container Line, Inc. dba Global Container Line (NVO & OFF), 1930 Sixth Avenue South, Suite 401, Seattle, WA 98134, Officers: Kevin J. Krause, VP Pricing & Supplier Management (Qualifying Individual), Peter F.J. Knapp, President, Application Type: QI Change.

Global Logistics New Jersey Limited Liability Company (NVO & OFF) 275 Veterans Boulevard, Rutherford, NJ 07070, Officers: Ohmoon Kwon, Manager/CEO (Qualifying Individual), Jihyuk Lim, Treasurer, Application Type: New NVO & OFF License.

Han C. Kim dba Harvest Global International (NVO & OFF), 3050 W. 4th Street, #209, Los Angeles, CA 90020, Officer: Han C. Kim, Sole Proprietor (Qualifying Individual), Application Type: New NVO & OFF License.

International Cargo Shipping LLC (NVO & OFF), 11354 Burbank Blvd., #C, North Hollywood, CA 91601, Officers: Hovannes “Leo” Bagdasarian, Member (Qualifying Individual), Karine Bagdasaryan, Member, Application Type: New NVO & OFF License.

Knight Global Solutions, Inc. (NVO & OFF), 51263 Nicolette Drive, Chesterfield TWP., MI 48047. Officer: Donald E. Finnerty, President/Secretary/Treasurer (Qualifying Individual). Application Type: New NVO & OFF License.

LOA, Inc. (NVO & OFF), 9911 Inglewood Avenue, #106, Inglewood, CA 90301, Officer: Robin G. Djordjevic, President/Secretary/Treasurer (Qualifying Individual), Application Type: New NVO & OFF License.

Nakamura Air Express (U.S.A.), Inc. dba Nax (USA), INC., dba KRN Logistics (NVO & OFF), 5343 W. Imperial Highway, #100, Los Angeles, CA 90045, Officers: Shiro Kobayashi, Operating Officer (Qualifying Individual), Fumio Tamada, President/CEO, Application Type: Trade Name Change.

Talwin Transport Service LLC (NVO & OFF), 2025 NW 102nd Avenue, Suite 110, Doral, FL 33172, Officers: Orestes G. Wrves, Secretary/Treasurer/Manager Member (Qualifying Individual), Gabriel Taberna, President/Manager Member, Application Type: New NVO & OFF License.

Transport Logistic International, Corp. (NVO & OFF), 7345 NW 79th Terrace, Medley, FL 33166, Officers: Juan J. Avendano, Vice President/Director (Qualifying Individual), Jennifer Granada, President/Director, Application Type: Add OFF Service.

Worldwide Integrated Logistics, LLC dba WIL Lines (NVO & OFF), 13290 NW 45th Avenue, Miami, FL 33054, Officers: Chadi Karam, Vice President/Treasurer (Qualifying Individual), Bassam Mourad, President, Application Type: QI Change.

Dated: February 24, 2012.
Karen V. Gregory,
Secretary.

[FR Doc. 2012-4943 Filed 2-29-12; 8:45 am]

BILLING CODE 6730-01-P